DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPAA) of 1996. This listing contains the name of each individual losing their United States citizenship (within the meaning of section 8 77(a)) with respect to whom the Secretary received information during the quarter ending June 30, 2008.

Last name | First name | Middle name/ initials
Long | Claire | L.
Lee | Stephen | Hyukzae.
Popov | Vaseo | Stoilov.
Spanfelner | Margaret | V.
Choe | Young | Cha.
Dufault | Christopher | Paul.
Auyang | Evan | Chichun.
Ho | Eric | Tszlung.
Leung | Terence | Wing Ho.
Han | Je | Hee.
Nickelson | Rosemarie | Christiane.
Dake | Janice | Maureen
Day | Patricia | Ann.
Henneaux | Franicoise | Maurice.
Epstein | Aaron | Daniel.
Lamoureux | Kathleen. |
Turk | Akiva. |
Van Zeebroek | Celia. |
Alexander | Anastasia. |
Van Zeebroek | Sarah. |
Cha | Christina. |
Hwang | Jisoo. |
Hong | Jin. | Hwa.

Dated: July 7, 2008.
Angie Kaminski,
Manager Team 103, Examinations Operations, Philadelphia Compliance Services.

[FR Doc. E8-16919 Filed 7-23-08; 8:45 am]

BILLING CODE 4830-01-M